DEPARTMENT OF HEALTH AND HUMAN SERVICES

Centers for Disease Control and Prevention

[60Day-26-1422; Docket No. CDC-2026-0266]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a continuing information collection, as required by the Paperwork Reduction Act of 1995. This notice invites comment on a proposed information collection project titled: National Wastewater Surveillance System for Infectious Diseases to Inform Public Health Action. Data is collected by jurisdictions and submitted to CDC for analysis and presentation for public awareness and health actions.

DATES: CDC must receive written comments on or before April 27, 2026.

ADDRESSES: You may submit comments, identified by Docket No. CDC-2026-0266 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Wastewater Surveillance System for Infectious Diseases to Inform Public Health Action (OMB Control No. 0920-1422, Exp. 12/31/2026)—Revision—National Center for Emerging and Zoonotic Infectious Diseases (NCEZID), Centers for Disease Control and Prevention (CDC)

Background and Brief Description

The National Wastewater Surveillance System (NWSS) was established in 2020 at CDC and continues to serve as a public health tool to provide wastewater surveillance for SARS-CoV-2. It has since expanded to include wastewater surveillance for emerging infectious diseases of public health concern such as Influenza, RSV, monkeypox virus, and measles, and is designed to permit the rapid addition or exchange of infectious disease targets for wastewater testing. This built-in flexibility will allow jurisdictions to adapt wastewater surveillance to changing public health needs, enable rapid responses to outbreaks or emergencies, and support broad capacity to detect future infectious disease threats.

Wastewater surveillance provides aggregated, anonymized data at the community level to indicate RSV and influenza infection trends, measles prevalence, and data on other infectious disease targets. This data collection could also help inform jurisdictions early about outbreaks leading to efficient resource allocation, providing health departments with additional, independent surveillance data to assess community-level infections.

CDC requests OMB approval for an additional three years and for an estimated 453,505 annual burden hours. There are no costs to respondents other than their time to participate.

Estimated Annualized Burden Hours
Type of respondents | Form name | Number of respondents | Number of responses per respondent | Average burden per response (in hours) | Annual burden hours
State, tribal, local, territorial health departments | Component 1 Forms: • Attachment-02_NWSS Data Dictionary_v6.2.1_2025-09-29_NEW • Attachment-03_Wastewater_Master-Reference-Guide_v4-2-2 • Attachment-04_Component-1_BioSample_ww_template_v1.9_NWSS.csv • Attachment-05_SRA_ww_template_v5.8_NWSS.csv | 64 | 2,080 | 139/60 | 308,395.
| • Attachment-06_Component-1_NCBI_DCIPHER_Crosswalk_DataDictionary.csv_NEW
| • Attachment-07_Component-1-2_NWSS_DCIPHER_CSVBulkUploadTool_screenshot.pdf
| • Attachment-08_Component-1_NWSS_1CDP_Wastewater_Data_CSV_Upload_Template_v4_All Fields_NEW.csv
Private laboratory | Component 1 Forms: • Attachment-02_Component-1_NWSS Data Dictionary_v5.0.0 • Attachment-03 Component-1_CDC_seq_manifest_data_dict.csv • Attachment-04_Component-1_BioSample_ww_template_v1.9_NWSS.csv • Attachment-05_Component-1_SRA_ww_template_v5.7_NWSS.csv • Attachment-06_Component-1_NCBI_DCIPHER_Crosswalk_DataDictionary.csv | 1 | Up to 62,400 (800 samples per week plus 400 sequenced samples per week is 62,400 annually) | 139/60 | 144,560.
| • Attachment-07_Component-1-2_NWSS_DCIPHER_CSVBulkUploadTool_screenshot.pdf
| • Attachment-08_Component-1_NWSS_1CDP_Wastewater_Data_CSV_Upload_Template_v4_All Fields_NEW.csv
| • Attachment-10_Component-1_CDC_seq_manifest_data_dict.xlsx
State, tribal, local, territorial health departments and wastewater utilities | Component 2 Forms: • Sewershed spatial files, no form required. • Attachment-07_Component-1-2_NWSS_DCIPHER_CSVBulkUploadTool_screenshot.pdf • Attachment-09_Component-2_NWSS_DCIPHER_Sewershed_Name_Crosswalk_CSV_Upload_Template_NEW | 213 | 1 | 155/60 | 550 (collection only required once).
Total |  |  |  |  | 453,505.

Jeffrey M. Zirger,
Lead, Information Collection Review Office, Office of Scientific Public Health Ethics and Regulations, Office of Science, Centers for Disease Control and Prevention.

[FR Doc. 2026-03599 Filed 2-23-26; 8:45 am]

BILLING CODE 4163-18-P